ENVIRONMENTAL PROTECTION AGENCY

[FRL-7556-6]

Notice of Charter Renewals of the Children's Health Protection Advisory Committee (CHPAC)

AGENCY: Environmental Protection Agency (EPA).

ACTION: Notice of charter renewal.

SUMMARY: The Charter for the Environmental Protection Agency's Children's Health Protection Advisory Committee (CHPAC); will be renewed for an additional two-year period, as a necessary committee which is in the public interest, in accordance with the provisions of the Federal Advisory Committee Act (FACA), 5 U.S.C. App.2 section 9(c). The purpose of CHPAC is to provide advice and recommendations to the Administrator of EPA on issues associated with development of regulations, guidance and policies to address children's health risks.

It is determined that CHPAC is in the public interest in connection with the performance of duties imposed on the Agency by law.

FOR FURTHER INFORMATION CONTACT: Inquiries may be directed to Joanne Rodman, Designated Federal Officer, CHPAC, U.S. EPA, OCHP MC 1107A, 1200 Pennsylvania Avenue, NW., Washington, DC 20460

Dated: September 3, 2003.
Joanne Rodman,
Acting Director, Office of Children's Health Protection.

[FR Doc. 03-23059 Filed 9-9-03; 8:45 am]

BILLING CODE 6560-50-P